DEPARTMENT OF TRANSPORTATION

Pipeline and Hazardous Materials Safety Administration

Hazardous Materials: Notice of Applications for Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before February 2, 2024.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC or at http://regulations.gov.

This notice of receipt of applications for special permit is published in accordance with part 107 of the Federal hazardous materials transportation law (49 U.S.C. 5117(b); 49 CFR 1.53(b)).

Issued in Washington, DC, on January 3, 2024.
Donald P. Burger,
Chief, General Approvals and Permits Branch.

Special Permits Data
Application No. | Applicant | Regulation(s) affected | Nature of the special permits thereof
10427-M | Astrotech Space Operations LLC | 173.61(a), 173.301(g), 173.302(a), 173.336 | To modify the special permit to authorize additional hazardous materials and to increase the height in paragraph 7.b.(3)(viii) to 70 feet. (mode 1)
11032-M | Air Liquide Advanced Technologies | 178.65(f)(3) | To modify the special permit to use an alternate definition of “lot”. (mode 1)
11215-M | Orbital Sciences LLC | 172.300, 172.600, 172.400, 172.500, 173.62, 175.75 | To modify the special permit to authorize motor vehicle as a mode. (modes 1, 4)
13307-M | UPL NA Inc | 172.504 | To modify the special permit to add a hazardous material and to authorize additional packaging. (mode 1)
14282-M | Dyno Nobel Inc | 172.301(c), 177.835(g) | To modify the special permit to authorize additional hazardous materials. (mode 1)
14651-M | Versum Materials US, LLC | 173.40(e) | To modify the special permit to add UN 3306 Zone B mixtures of Fluorine Nitrogen. (mode 1)
14981-M | Eclipse Aerospace, Inc | 173.202, 173.302(a)(1) | To modify the special permit to authorize an additional packaging. (modes 1, 2, 3, 4)
15882-M | Ryan Air, Inc | 173.27, 173.243 | To modify the special permit to authorize an additional packaging. (mode 4)
20245-M | Jaguar Instruments Inc | 173.192, 173.201, 173.202, 173.203, 173.302(a), 173.304(a) | To modify the special permit to authorize a cylinder with a length not exceeding 48 inches. (modes 1, 2, 3, 4)
21212-M | The Boeing Company | 173.241 | To modify the special permit to add 2 hydraulic carts. (mode 1)
21607-M | Amazon.com, Inc | 172.200(b)(3), 172.315(a)(2) | To modify the special permit to authorize shipments of division 5.2 hazardous materials, remove the maximum ferry route limitation of 35 miles, remove dangerous goods manifest requirements, and modify shipment reporting requirements to allow product-type details to be provided in lieu of proper shipping name information.

[FR Doc. 2024-00814 Filed 1-17-24; 8:45 am]

BILLING CODE 4910-60-P